DEPARTMENT OF HOMELAND SECURITY

Coast Guard

33 CFR Part 165

[Docket No. USCG-2012-0429]

RIN 1625-AA00

Eighth Coast Guard District Annual Safety Zones; Blue Angels Air Show; Gulf of Mexico & Santa Rosa Sound; Pensacola, FL

AGENCY: Coast Guard, DHS.

ACTION: Notice of enforcement of regulation.

SUMMARY: The Coast Guard will enforce a Safety Zone for the Blue Angels Air Show in the Gulf of Mexico and Santa Rosa Sound, Pensacola, Florida from 12:01 a.m. July 11, 2012 through 11:59 p.m. July 15, 2012. This action is necessary for the safeguard of participants and spectators, including all crews, vessels, and persons on navigable waters during the Blue Angels Air Show. During the enforcement period, entry into, transiting or anchoring in the Safety Zone is prohibited to all vessels not registered with the sponsor as participants or official patrol vessels, unless specifically authorized by the Captain of the Port (COTP) Mobile or a designated representative.

DATES: The regulations in 33 CFR 165.801 will be enforced from 12:01 a.m. July 11, 2012, through 11:59 p.m. July 15, 2012.

FOR FURTHER INFORMATION CONTACT: If you have questions on this notice of enforcement, call or email LT Lenell J. Carson, Coast Guard Sector Mobile, Waterways Division; telephone 251-441-5940 or email Lenell.J.Carson@uscg.mil.

SUPPLEMENTARY INFORMATION: The Coast Guard will enforce the Safety Zone for the annual Blue Angels Air Show event listed in 33 CFR 165.801 Table 1, Table No. 152; Sector Mobile, No. 11 on July 11 to July 15, 2012.

Under the provisions of 33 CFR 165.801, entry into the safety zone listed in Table 1, Table No. 152; Sector Mobile, No. 11 is prohibited unless authorized by the Captain of the Port or a designated representative. Persons or vessels desiring to enter into or passage through the Safety Zone must request permission from the Captain of the Port or a designated representative. If permission is granted, all persons and vessels shall comply with the instructions of the Captain of the Port or designated representative.

This notice is issued under authority of 5 U.S.C. 552 (a); 33 U.S.C. 1231; 46 U.S.C. Chapter 701, 3306, 3703; 50 U.S.C. 191, 195; 33 CFR 1.05-1, 6.04-1, 6.04-6, and 160.5; Pub. L. 107-295, 116 Stat. 2064; Department of Homeland Security Delegation No. 0170.1. In addition to this document in the Federal Register, the Coast Guard will provide the maritime community with advance notification of this enforcement period via Local Notice to Mariners and Marine Information Broadcasts.

If the Captain of the Port Mobile or Patrol Commander determines that the Safety Zone need not be enforced for the full duration stated in this notice of enforcement, he or she may use a Broadcast Notice to Mariners to grant general permission to enter the regulated area.

Dated: May 31, 2012.
D.J. Rose,
Captain, U.S. Coast Guard, Captain of the Port Mobile.

[FR Doc. 2012-16113 Filed 6-29-12; 8:45 am]

BILLING CODE 9110-04-P